INTERNATIONAL TRADE COMMISSION

19 CFR Part 201

Rules of General Application

AGENCY: International Trade Commission.

ACTION: Notice of proposed rulemaking.

SUMMARY: The United States International Trade Commission (Commission) proposes to amend its Rules of Practice and Procedure (Rules) to permit persons the option of filing certain documents with the Commission in electronic form instead of in paper form only, as currently required by the Rules. The Commission also proposes amending its Rules of Practice and Procedure to allow electronic service of documents in limited circumstances and to require persons to complete and submit a standard cover sheet when filing documents, either in paper form or in electronic form, with the Commission. The intended effect of these amendments is to provide a choice to persons who wish to file documents electronically and/or serve documents by electronic means on other parties.

DATES: To be assured of consideration, written comments must be received by 5:15 p.m. on June 25, 2002.

ADDRESSES: A signed original and 8 copies of each set of comments on these proposed amendments, along with a cover letter, should be submitted by mail or hand delivery to Marilyn R. Abbott, Secretary, United States International Trade Commission, 500 E Street, SW, Room 112, Washington, DC 20436.

FOR FURTHER INFORMATION CONTACT: Irene H. Chen, Esq., Office of the General Counsel, United States International Trade Commission, telephone 202-205-3112. Hearing-impaired individuals are advised that information on this matter can be obtained by contacting the Commission's TDD terminal at 202-205-1810. General information concerning the Commission may also be obtained by accessing its Internet server (http://www.usite.gov).

SUPPLEMENTARY INFORMATION: The preamble below is designed to assist readers in understanding these proposed amendments to the Commission Rules. The preamble begins with a discussion of the background leading up to these proposed amendments and ends with a regulatory analysis addressing government-wide statutes and issuances on rulemaking. The Commission encourages members of the public to comment—in addition to any other comments they wish to make on the proposed amendments—on whether the proposed amendments are in language that is sufficiently plain for users of the rules to understand.

Background

The Government Paperwork Elimination Act (GPEA) (Pub. L. No. 105-277, Div. C, Title XVII), enacted on October 21, 1998, provides for Federal agencies to permit individuals and/or entities the option of transacting business with the agency electronically and to maintain records electronically, when practicable, by October 21, 2003. GPEA also provides that electronic records and their related electronic signatures are not to be denied legal effect, validity, or enforceability merely because they are in electronic form. The Commission is authorized by section 335 of the Tariff Act of 1930 (19 U.S.C. 1335) to adopt such reasonable procedures, rules, and regulations as it deems necessary to carry out its functions and duties. Consistent with GPEA and the Tariff Act of 1930, this notice proposes two (2) amendments to section 201.8 of the Commission's Rules and one (1) amendment to section 201.16 of the Commission's Rules.

The first proposed amendment to section 201.8 would allow persons appearing before the Commission the option of filing certain documents electronically at the Commission's Internet website in lieu of or in addition to filing such documents in paper form. By amending the Rules to allow for electronic filing, the Commission does not intend to require persons to file documents with the Commission in electronic form; instead the Commission is offering persons the option of filing documents electronically.

The second proposed amendment to section 201.8 would require persons to submit a cover sheet with their paper or electronic filing to enable the Commission to properly docket the filed document on its electronic document information system (EDIS-II). The cover sheet requests information such as the investigation number, document type, document title, identity of the filer, and the security of the document (public or confidential). When a document is entered into EDIS-II, certain information that describes the document also is entered. The proposed amendment is designed to streamline that process by requiring that all filers submit the cover sheet. The cover sheet will insure that the document is docketed and catalogued properly in EDIS-II.

The proposed amendment to section 201.16 would permit persons the option of serving documents electronically on other parties in limited circumstances. Under proposed amendment, parties wishing to effect electronic service of documents must obtain the prior consent of the Secretary except in proceedings conducted under section 337 of the Tariff Act of 1930. In section 337 proceedings, parties must obtain the consent of the presiding administrative law judge before serving documents electronically on other parties. The Commission is not prepared at this time to permit electronic service in all instances. Instead, the Secretary or the administrative law judge will make a determination on whether to permit full or partial electronic service in a proceeding based on the circumstances of that case.

Consistent with its normal practice, the Commission is promulgating this amendment in accordance with the rulemaking procedure in section 553 of the Administrative Procedure Act (APA) (5 U.S.C. 553). This procedure consists of the following steps: (1) Publication of a notice of proposed rulemaking in the Federal Register; (2) solicitation of public comments on the proposed rules; (3) Commission review of such comments prior to developing final rules; and (4) publication of rules not less than thirty days prior to their effective date. See 5 U.S.C. 553.

Regulatory Analysis

The Commission has determined that these proposed rules do not meet the criteria described in Section 3(f) of Executive Order 12866 (58 FR 51735, Oct. 4, 1993) and thus do not constitute a significant regulatory action for purposes of the Executive Order.

The Regulatory Flexibility Act (5 U.S.C. 601 et seq.) is inapplicable to this rulemaking because it is not one for which a notice of proposed rulemaking is required under 5 U.S.C. 553(b) of the APA or any other statute. Although the Commission has chosen to publish a notice of proposed rulemaking, these proposed regulations are “agency rules of procedure and practice,” and thus are exempt from the notice requirement imposed by 5 U.S.C. 553(b).

These proposed rules do not contain federalism implications warranting the preparation of a federalism summary impact statement pursuant to Executive Order 13132 (64 FR 43255, Aug. 4, 1999).

No actions are necessary under the Unfunded Mandates Reform Act of 1995 (2 U.S.C. 1501 et seq.) because the proposed rules will not result in the expenditure by State, local, and tribal governments, in the aggregate, or by the private sector, of $100,000,000 or more in any one year, and will not significantly or uniquely affect small governments.

The proposed rules are not major rules as defined by section 804 of the Small Business Regulatory Enforcement Fairness Act of 1996 (5 U.S.C. 801 et seq.). Moreover, they are exempt from the reporting requirements of the Contract With America Advancement Act of 1996 (Pub. L. 104-121) because they concern rules of agency organization, procedure, or practice that do not substantially affect the rights or obligations of non-agency parties.

Proposed Information Collection

With respect to the Commission's proposal to amend section 201.8 of the Rules to add paragraph (g), the proposed information collection is being conducted pursuant to the Paperwork Reduction Act of 1995 (Pub. L. 104-13). Pursuant to the Office of Management and Budget's (OMB) regulations regarding information collection, the Commission has prepared a supporting statement to be submitted to the Office of Management and Budget concerning the information collected by the Commission on the cover sheet. The public is entitled to comment on this information collection after review of the cover sheet, which is published simultaneously with this notice. In your comments, please address any concerns regarding the proposed collection of information, including (1) whether it is necessary for the proper performance of the functions of the Commission; (2) whether the information will have practical utility; (3) whether the agency's estimate of the burden of the proposed collection of information is accurate, including the validity of the methodology and assumptions used; (4) how to enhance the quality, utility, and clarity of the information to be collected; and (5) how to minimize the burden of the collection of information on those who are to respond, including through the use of appropriate automated, electronic, mechanical, or other technological collection techniques or other forms of information technology, e.g., permitting electronic submission of responses. A sample of the proposed cover sheet is attached to this Notice. The collection of information contained in the proposed rule, and identified as such, have been submitted to OMB for review under section 3507(d) of the Paperwork Reduction Act. Members of the public are invited to submit comments to this proposed information collection both to the Commission and to OMB. A signed original and 8 copies of each set of comments on this proposed information collection, along with a cover letter, should be submitted by mail or hand delivery to Marilyn R. Abbott, Secretary, United States International Trade Commission, 500 E Street, SW, Room 112, Washington, DC 20436, and to the Office of Information and Regulatory Affairs of OMB, Attention: Desk Officer for International Trade Commission, Room 10102, 725 17th Street NW, Washington, DC 20503 by 5:15 p.m. on June 25, 2002. The Commission provides the following information regarding the proposed information collection:

1. Title: EDIS-II cover sheet.

2. Summary of the collection of information: Filers of documents in paper and electronic form will be required to submit a cover sheet that describes the filer and the document. EDIS-II will also involve registration of electronic filers, but that will only entail a filer providing name and contact information as well as agreeing to the terms of use of EDIS-II.

3. Description of the Need for Information and Proposed User of the Information: The collection of information is necessary so that the Commission may catalog each filing as accurately and efficiency as possible. EDIS-II will be organized to permit users to locate documents depending on information on the cover sheet, including the type of investigation, investigation number, type of document, and identity of the filer.

4. Description of Likely Respondents: Likely respondents are limited mostly to those firms who regularly file documents at the Commission on behalf of parties to Commission investigations or questionnaire respondents. The estimated number of respondents is about 4,695 and the estimated frequency of response to the collection of information is either about 47 times or one time per year, depending on the filer.

5. Estimated Total Annual Reporting and Recordkeeping Burden: The estimated total annual reporting burden is about 1,153.3 hours. There is no recordkeeping burden.

Section-by-Section Analysis of the Proposed Amendments

PART 201—RULES OF GENERAL APPLICATION

Subpart B—Initiation and Conduct of Investigations

Section 201.8

Section 201.8 currently provides that a signed original and 14 copies of each document are to be filed with the Secretary of the Commission. The Commission proposes to add a new paragraph (f) to section 201.8 to permit persons the options of filing certain documents electronically at the Commission's Internet Web site without violating the relevant provisions of the Rules that govern paper filing of documents with the Commission.

The Commission also proposes to add a new paragraph (g) to section 201.8 to require that persons filing documents either in paper form or electronically must provide certain coding information to the Commission along with their filings.

Section 201.16

Section 201.16 provides generally that documents required to be served by a person or by the Commission on another party shall be effected by mailing or delivering a copy of such documents to such party or its authorized representative or its attorney. The Commission proposes to add a new paragraph (e) to section 201.16 to permit persons the option of serving documents on other parties electronically, if the Secretary consents to such electronic service, except in proceedings under section 337 of the Tariff Act of 1930. In section 337 proceedings, parties must obtain the prior permission of the presiding administrative law judge before serving documents electronically on other parties.

List of Subjects in 19 CFR Part 201

Administrative practice and procedure, Reporting and recordkeeping requirements.

For the reasons stated in the preamble, the Commission proposes to amend 19 CFR part 201 as follows:

PART 201—RULES OF GENERAL APPLICATION

1. The authority citation for part 201 continues to read as follows:

Authority: Sec. 335 of the Tariff Act of 1930 (19 U.S.C. 1335), and sec. 603 of the Trade Act of 1974 (19 U.S.C. 2482), unless otherwise noted.

2. Amend § 201.8 to add paragraphs (f) and (g) to read as follows:

§ 201.8 Filing of documents.

* * * * *

(f) Electronic filing. Notwithstanding the relevant provisions of § § 201.8, 201.12, 201.16, 207.3, 207.93, 210.4 and 210.7 of the Commission's Rules of Practice and Procedure (19 CFR 201.8, 201.12, 201.16, 207.3 207.93, 210.4 and 210.7) governing the filing of documents in paper form with the Commission, a person may instead or in addition choose to file electronically certain documents at http://edis.usitc.gov. A person so choosing shall comply with the procedures set forth in the Commission's Handbook on Electronic Filing Procedures, which is available at the Office of the Secretary and at http://edis.usitc.gov. The Commission's Handbook on Electronic Filing Procedures will include a description of documents that are permitted to be filed with the Commission in electronic form.

(g) Cover sheet. Documents filed in paper form with the office of the Secretary must be accompanied by a cover sheet in a form prescribed by the Secretary, completed in its entirety. The cover sheet may be obtained from the Secretary or printed-out at http://edis.usitc.gov. For documents that are filed electronically, the cover sheet for such filing must be completed on-line at http://edis.usitc.gov at the time of the electronic filing.

3. Amend $201.16 to add paragraph (e) to read as follows:

§ 201.16 Service of process and other documents.

* * * * *

(e) Electronic service. With the prior consent of the Secretary, parties may serve documents by electronic means in all matters before the Commission, except for proceedings conducted under section 337 of the Tariff Act of 1930. In the case of proceedings under section 337 of the Tariff Act of 1930, parties may serve documents by electronic means with the prior consent of the presiding administrative law judge. Parties may only effect electronic service on recipients who have provided written consent thereto to the Secretary or the presiding administrative law judge. If electronic service is permitted, paragraphs (a), (b) and (d) of this section shall not apply. However, any dispute that arises among aprties regarding electronic service must be resolved by the parties themselves, without the Commission/s involvement. A party may withdraw its consent to electronic service and require service under paragraphs (a) and (b) of this section

Dated: April 23, 2002.
By Order of the Commission:
Marilyn R. Abbott,
Secretary.

The following atttachment will not appear in the Code of Federal Regulations.

ATTACHMENT: EDIS-II Cover Sheet

Filed by

Firm/Organization

Filed on Behalf of

Security

Investigation #

Document Type

Document Title

Document Date

Add Attachments:

[FR Doc. 02-10346 Filed 4-25-02; 8:45 am]

BILLING CODE 7020-02-M